DEPARTMENT OF COMMERCE

Foreign-Trade Zones Board

[S-218-2024]

Approval of Subzone Status; Premium Guard, Inc.; Weirton, West Virginia

On December 11, 2024, the Executive Secretary of the Foreign-Trade Zones (FTZ) Board docketed an application submitted by the West Virginia Economic Development Authority, grantee of FTZ 240, requesting subzone status subject to the existing activation limit of FTZ 240, on behalf of Premium Guard, Inc., in Weirton, West Virginia.

The application was processed in accordance with the FTZ Act and Regulations, including notice in the Federal Register inviting public comment (89 FR 102856, December 18, 2024). The FTZ staff examiner reviewed the application and determined that it meets the criteria for approval. Pursuant to the authority delegated to the FTZ Board Executive Secretary (15 CFR 400.36(f)), the application to establish Subzone 240A was approved on January 28, 2025, subject to the FTZ Act and the Board's regulations, including section 400.13, and further subject to FTZ 240's 317-acre activation limit.

Dated: January 28, 2025.
Elizabeth Whiteman,
Executive Secretary.

[FR Doc. 2025-02024 Filed 1-30-25; 8:45 am]

BILLING CODE 3510-DS-P